DEPARTMENT OF AGRICULTURE

Forest Service

Rangeland Allotment Management Planning on the Fall River West and Oglala Geographic Areas, Fall River and Pine Ridge Ranger Districts, Nebraska National Forest

AGENCY: Forest Service, USDA.

ACTION: Notice of intent to prepare an environmental impact statement.

SUMMARY: The USDA, Forest Service, will prepare an environmental impact statement (EIS) analyzing the management of rangeland vegetation resources, which includes livestock grazing, on the National Forest System (NFS) lands within the Oglala Geographic Area (OGA) of the Oglala National Grassland on the Pine Ridge Ranger District and the West Geographic Area (WGA) of the Buffalo Gap National Grassland on the Fall River Ranger District of the Nebraska National Forest (Analysis Area).

Proposed management actions would be implemented beginning in the year 2009. The agency gives notice of the full environmental analysis and decision-making process that will occur on the proposal so interested and affected people may become aware of how they may participate in the process and contribute to the final decision.

DATES: Comments concerning the scope of the analysis must be received within 30 days after publication in the Federal Register. The draft environmental impact statement is expected January 26, 2009 and the final environmental impact statement is expected April 24, 2009.

ADDRESSES: Send written comments pertaining to this project on the Oglala Geographic Area to Charles R. Marsh, District Ranger, Pine Ridge Ranger District, 1240 W. 16th Street, Chadron, Nebraska 69337; send written comments pertaining to the Fall River West Geographic Area to Michael E. McNeill, District Ranger, Fall River Ranger District, P.O. Box 732, Hot Springs, SD 57747.

FOR FURTHER INFORMATION CONTACT: For further information about the Oglala Geographic Area on the Oglala National Grassland, mail correspondence to Lora O'Rourke, Co-Interdisciplinary Team Leader, Pine Ridge Ranger District, 1240 W. 16th Street, Chadron, Nebraska 69337, Phone 308-432-4475. For further information about the West Geographic Area on the Buffalo Gap National Grassland, mail correspondence to Robert Novotny, Co-Interdisciplinary Team Leader, Fall River Ranger District, P.O. Box 732, Hot Springs, SD 57747.

SUPPLEMENTARY INFORMATION: Vegetation resources on approximately 94,000 acres of NFS lands lying within the Oglala National Grassland in Sioux and Dawes Counties of northwest Nebraska, and approximately 117,000 acres of NFS lands lying within the Buffalo Gap National Grassland in Fall River County of southwest South Dakota, are being analyzed to determine if and how existing conditions differ from desired conditions outlined in the 2001 Nebraska National Forest Land and Resource Management Plan (Forest Plan).

Vegetation in the Analysis Area is characteristic of mixed-grass prairie and lesser amounts of ponderosa pine/juniper habitats. Short-grass species include blue grama, buffalograss, and upland sedges. Mid-grass species include western wheatgrass, green needlegrass, and to a lesser extent sideoats grama. Shrubs include Wyoming big sagebrush, greasewood, and yucca glauca. Some creeks transverse the area and support plains cottonwood, green ash, and willow.

A large portion of the Analysis Area evolved under a history of homesteading in the early twentieth century, and a prolonged drought period combined with the economic depression of the late 1920s and early 1930s caused many of these homesteads to fail. Starting in 1930s, land was purchased through the northwestern Nebraska and southwestern South Dakota under the Land Utilization Project initiated by the Agricultural Adjustment Administration. This continued with the Bankhead Jones Farm Tenant Act of 1937, which was designed to develop a program of land conservation. Administration of these lands was turned over to the Soil Conservation Service the following year and transferred to the United States Forest Service in 1954.

Today the Oglala and Buffalo Gap National Grasslands support and provide a variety of multiple resource uses and values. Livestock ranching operations in the area depend on National Grassland acreage to create logical and efficient management units. Cattle and sheep, in accordance with 10-year term and/or annual temporary livestock grazing permits, are currently authorized to graze the allotments within the Analysis Area. In order to determine how existing resource conditions compare to desired conditions, data from monitoring and analysis (historical and present) will be used. During the past 5-7 years, drought conditions have impacted plant vigor, canopy, and litter cover in most parts of the Analysis Area.

Purpose and Need for Action

Two primary influences help to shape the need for this project.

The Rescission Act of 1995 (Pub. L. 104-19, Section 504), directed the Forest Service to complete National Environmental Policy Act (NEPA) analysis on all grazing allotments. This analysis will comply with that direction.

The 2001 Forest Plan established goals, objectives, standards, and guidelines for resource management on the Nebraska National Forest and Associated Units. The Forest Plan identifies livestock grazing as an appropriate multiple use under certain conditions.

The Forest Service will evaluate the existing authorized livestock use, livestock management, and rangeland vegetative conditions within the Analysis Area and will assess the relationship with the desired vegetative conditions identified within the Forest Plan. Any differences between the two will establish the need for any livestock management adjustments to meet or move existing vegetative conditions toward Forest Plan desired conditions.

The purpose of the project is to address any need for adjustments by determining whether to continue to permit livestock grazing on all, or part, of the Anaysis Area and under what conditions and management strategies.

Proposed Action: Implement vegetation management strategies through an adaptive management process, which includes authorizing livestock grazing within the Analysis Area that will meet or move toward desired vegetative conditions as identified in the Forest Plan. Adaptive management is defined as a process where land managers implement management practices that are designed to meet Forest Plan standards and guidelines and that would likely achieve the desired conditions in a timely manner. If monitoring shows that desired conditions, as described by Forest Plan Direction, are not being met, then an alternate set of management actions would be implemented to achieve the desired results. The proposal may generate the need to develop new or update existing allotment management plans (AMPs).

The AMPs will be prepared for individual allotments and implemented in the 2009 grazing season and beyond.

The Forest Plan identifies lands within the OGA and FRWGA as containing lands that are capable and suitable for grazing by domestic livestock. These lands are to be monitored to evaluate both implementation and effectiveness of management actions.

In all cases, vegetation management tools will be used that meet Forest Plan objectives, standards, and guidelines and that will maintain or move existing resource conditions toward desired conditions for that geographic area. If monitoring indicates that practices are being properly implemented and that resource trends are moving toward meeting desired conditions in a timely manner, management may continue unchanged. If monitoring indicates that there is a need to modify management practices, adaptive options as analyzed in the EIS will be selected and implemented.

The Analysis Area provides habitat for many wildlife species (game and non-game) including three management indicator species (MIS) and their habitats. These MIS species are the sharp-tailed grouse, sage grouse, and black-tailed prairie dog. Habitat for the swift fox, a Forest Service Region 2 sensitive species, also exists.

Consultation with the U.S. Fish and Wildlife Service, as required by the Endangered Species Act (ESA), will be completed on all proposed activities.

An interdisciplinary team has been selected to do the environmental analysis, as well as prepare and accomplish scoping and public involvement activities.

Possible Alternatives: Potential alternatives include:

1. No action, No change from authorized grazing use or current situation.

2. No Grazing.

3. Livestock grazing incorporating adaptive management to meet the Forest Plan goals, objectives, standards, and guidelines.

Responsible Officials: Charlie R. Marsh, District Ranger at the Pine Ridge Ranger District, 1240 W. 16th Street, Chadron, Nebraska 69337; and Michael E. McNeill, District Ranger at the Fall River Ranger District, P.O. Box 732, Hot Springs, South Dakota 57747-0732 are the Responsible Officials for making the decision on this action. They will document their decision and rationale in a Record of Decision.

The Responsible Officials will consider the results of the analysis and its findings and then document their decisions in two separate Records of Decision (ROD), one for the OGA and one for the FRWGA. The decisions will determine whether or not to authorize livestock grazing on all, part, or none of the Analysis Area, and if so, what adaptive management design criteria, adaptive options, and monitoring will be implemented so as to meet or move toward the desired conditions as specified in the Forest Plan.

Nature of Decision To Be Made: The EIS is not a decision document. The purpose of the EIS document is to disclose the direct, indirect, and cumulative effects of the proposed action and other alternatives that are analyzed. After providing the public an opportunity to comment on the specific activities described in the alternatives, the Responsible Officials will review all alternatives and the anticipated environmental consequences of each in order to make the following decisions:

1. Whether or not to authorize livestock grazing within the Analysis Area in whole or in part.

2. If grazing is to be Authorized, (a) what grazing systems and prescribed livestock use would be implemented; (b) what structural and non-structural range improvements would be necessary; and (c) what type of monitoring program would be proposed.

3. Identify any “mitigation measure” needed to implement the decision.

Individual Allotment Management Plans (AMPs) would then be developed to incorporate conditions outlined in the Record of Decision. These AMPs will become part of each associated term grazing permit issued.

Scoping Process: Concurrent with this notice of intent, letters requesting comments will be sent to interested parties. Anyone who provides comments to the draft EIS or expresses interest during the comment period will have standing in the process.

Public involvement will be especially important at several points during the analysis, beginning with the scoping process. The Forest Service will seek information, comments, and assistance from Federal, State, local agencies, tribes, and other individuals or organizations who may be interested in, or affected by, the proposal. The scoping activities will include: (1) Engaging potentially affected or interested parties by written correspondence, (2) contacting those on our Forest media list, and (3) hosting public information meeting(s).

Preliminary Issues: Preliminary issues include:

1. Effects of proposed management strategies on natural ecosystems. This includes elements such as native and desirable nonnative plant and animal communities, black-tailed prairie dog management, riparian areas, upland grasslands, wooded draws, ponderosa pine forested areas, areas of hazardous fuels, and threatened, endangered, sensitive, and management indicator species.

2. Social-economic effects (positive or negative) on livestock grazing permittees and the local economy from changes in livestock management.

3. Effects of proposed livestock grazing strategies on recreational activities and/or experiences.

Comment Requested: This notice of intent initiates the formal scoping process that guides the development of the environmental impact statement.

Early Notice of Importance for Public Participation in Subsequent Environmental Review: A draft environmental impact statement (DEIS) will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the document. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: February 7, 2008.
Charles R. Marsh,
District Ranger, Pine Ridge Ranger District.
Dated: February 7, 2008.
Michael E. McNeill,
District Ranger, Fall River Ranger District.

[FR Doc. E8-2880 Filed 2-21-08; 8:45 am]

BILLING CODE 3410-11-P